BROADCASTING BOARD OF GOVERNORS

Sunshine Act Meeting

DATE AND TIME: Friday, August 17, 2012, 12:00 p.m.

PLACE: Broadcasting Board of Governors, Cohen Building, Room 3321, 330 Independence Ave. SW., Washington, DC 20237.

SUBJECT: Notice of Closed Meeting of the Broadcasting Board of Governors.

SUMMARY: The members of the Broadcasting Board of Governors (BBG) will meet in a special session, to be conducted telephonically, to receive and consider staff recommendations regarding the Agency's FY 2014 budget proposal. According to Office of Management and Budget (OMB) Circular A-11, Section 22.1, all agency budgetary materials and data are considered confidential prior to the President submitting a budget to Congress. In accordance with section 22.5 of Circular A-11, the BBG has determined that its meeting should be closed to public observation pursuant to 5 U.S.C. 552b(c)(9)(B). In accordance with the Government in the Sunshine Act and BBG policies, the meeting will be recorded and a transcription of the proceedings, subject to the redaction of information protected by 5 U.S.C. 552b(c)(9)(B), will be made available to the public. The publicly-releasable transcript will be available for download at www.bbg.gov within 21 days of the date of the meeting.

MEMBER VOTES TO CLOSE THE MEETING:

Victor Ashe—No

Michael Lynton—Yes

Susan McCue—Yes

Michael Meehan—Yes

Dennis Mulhaupt—Yes

Dana Perino—Yes

Tara Sonenshine—Yes

Statements from individual Board members explaining their votes can be found on the BBG Web site.

EXPECTED ATTENDEES:

Victor Ashe, BBG Member

Michael Lynton, BBG Member and Presiding Governor (via telephone)

Susan McCue, BBG Member (via telephone)

Michael Meehan, BBG Member (via telephone)

Dennis Mulhaupt, BBG Member and Alternate Presiding Governor (via telephone)

Dana Perino, BBG Member (via telephone)

Tara Sonenshine, Under Secretary for Public Diplomacy and Public Affairs (via telephone)

Richard Lobo, Director of the International Broadcasting Bureau (IBB)

Jeffrey Trimble, IBB Deputy Director

Marie Lennon, Chief of Staff

Maryjean Buhler, Chief Financial Officer

Paul Kollmer-Dorsey, Deputy General Counsel and Board Secretary

Lynne Weil, Director of Communications and External Affairs

Oanh Tran, Director of Board Operations

CONTACT PERSON FOR MORE INFORMATION: Persons interested in obtaining more information should contact Paul Kollmer-Dorsey at (202) 203-4545.

Paul Kollmer-Dorsey,
Deputy General Counsel and Board Secretary.

[FR Doc. 2012-20006 Filed 8-10-12; 11:15 am]

BILLING CODE 8610-01-P